DEPARTMENT OF HEALTH AND HUMAN SERVICES

Centers for Disease Control and Prevention

Disease, Disability, and Injury Prevention and Control Special Emphasis Panel (SEP): National Institute for Occupational Safety and Health (NIOSH): Occupational Safety and Health Training Project Grants Announcement for Research (PAR) 06-484

In accordance with Section 10(a)(2) of the Federal Advisory Committee Act (Pub. L. 92-463), the Centers for Disease Control and Prevention (CDC) announces the aforementioned meeting.

Time and Date:1 p.m.-3:30 p.m., April 1, 2008 (Closed).

Place: NIOSH, 2400 Century Parkway, Conference Room 4211-NIOSH-2, Atlanta, GA 30345.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of “NIOSH Occupational Safety and Health Training Project Grants, PAR 06-484.”

Contact Person for More Information: Charles N. Rafferty, Ph.D., Assistant Director for Review and Policy Office of Extramural Program, Office of Extramural Coordination and Special Projects, NIOSH, CDC, 2400 Century Parkway, NE., Atlanta, GA 30345, Telephone (404) 498-2500.

The Director, Management Analysis and Services Office, has been delegated the authority to sign Federal Register notices pertaining to announcements of meetings and other committee management activities, for both CDC and the Agency for Toxic Substances and Disease Registry.

Dated: March 12, 2008.
Diane Allen,
Acting Director, Management Analysis and Services Office, Centers for Disease Control and Prevention.

[FR Doc. E8-5376 Filed 3-17-08; 8:45 am]

BILLING CODE 4163-18-P